DEPARTMENT OF TRANSPORTATION

Coast Guard

33 CFR Part 165

[CGD05-02-097]

RIN 2115-AA97

Safety Zone; James River, Newport News, Virginia

AGENCY: Coast Guard, DOT.

ACTION: Temporary final rule.

SUMMARY: The Coast Guard is establishing a temporary safety zone encompassing the USS RONALD REAGAN, moored at Newport News Shipbuilding south side Pier 2. This action is intended to restrict vessel traffic on the James River within a 1000-foot radius of the vessel. The safety zone is necessary to protect mariners from the hazards associated with catapult testing being conducted on the USS RONALD REAGAN.

DATES: This rule is effective from 6 a.m. on December 16, 2002 to 8 p.m. on December 22, 2002.

ADDRESSES: Documents indicated in this preamble as being available in the docket are part of docket CGD05-02-097 and are available for inspection or copying at USCG Marine Safety Office Hampton Roads, 200 Granby Street, Norfolk, Virginia, 23510 between 9:30 a.m. and 2 p.m., Monday through Friday, except Federal holidays.

FOR FURTHER INFORMATION CONTACT: LT Monica Acosta, project officer, USCG Marine Safety Office Hampton Roads, at (757) 668-5590.

SUPPLEMENTARY INFORMATION:

Regulatory Information

We did not publish a notice of proposed rulemaking (NPRM) for this regulation. Under 5 U.S.C. 553(b)(B) and 553(d)(3), the Coast Guard finds that good cause exists for not publishing a NPRM and making this regulation effective less than 30 days after publication in the Federal Register. Because of the danger posed by the catapult testing, a limited access area is necessary to provide for the safety of mariners. For the safety concerns noted, it is in the public interest to have these regulations in effect during the testing.

Background and Purpose

The Coast Guard is establishing a temporary safety zone encompassing the USS RONALD REAGAN, moored at Newport News Shipbuilding south side Pier 2 while conducting catapult dead load testing. The safety zone will restrict vessel traffic on a portion of the James River, within a 1000-foot radius of the USS RONALD REAGAN. The safety zone is necessary to protect mariners from the hazards associated with the catapult testing. The safety zone will be effective from 6 a.m. on December 16, 2002 to 8 p.m. on December 22, 2002. Entry into this zone is prohibited unless authorized by the Captain of the Port, Hampton Roads or his designated representative. Public notifications will be made prior to the testing via marine information broadcasts.

Discussion of Rule

The Coast Guard is establishing a safety zone within a 1000-foot radius of the USS RONALD REAGAN, moored at Newport News Shipbuilding south side Pier 2. The temporary regulations will be enforced from 6 a.m. December 16, 2002 through 8 p.m. December 22, 2002, and will restrict general navigation in the safety zone during the testing. Except for participants and vessels authorized by the Coast Guard Patrol Commander, no person or vessel may enter or remain in the regulated area.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040; February 26, 1979).

This temporary final rule will affect a limited area for less than one week during daylight hours only. Advance notification via marine information broadcasts will enable mariners to plan their transit to avoid the safety zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners and operators of vessels intending to transit or anchor in that vicinity of the James River from 6 a.m. to 8 p.m. on December 16, 2002 through December 22, 2002.

The effect of this rule will not be significant because of its limited duration and the extensive advance notifications that will be made to the maritime community via Local Broadcast Notices to Mariners and marine information broadcasts so mariners can adjust their plans accordingly.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(g) of Commandant Instruction M16475.lD, this rule is categorically excluded from further environmental documentation. This is a safety zone one week in duration.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C 1231; 50 U.S.C 191; 33 CFR 1.05-1(g), 6.04-1, 6.04-6, and 160.5; 49 CFR 1.46.

2. From 6 a.m. on December 16, 2002, to 8 p.m. on December 22, 2002, add a temporary § 165.T05-097 to read as follows:

§ 165.T05-097 Safety Zone; James River, Newport News, Virginia

(a) Location. The following area is a safety zone: all waters of the James River within 1000 feet of the USS RONALD REAGAN, moored at Newport News Shipbuilding south side Pier 2.

(b) Captain of the Port. Captain of the Port means the Commanding Officer of the Marine Safety Office Hampton Roads, Norfolk, VA or any Coast Guard commissioned, warrant, or petty officer who has been authorized to act on his behalf.

(c) Regulations. (1) All persons are required to comply with the general regulations governing safety zones found in § 165.23 of this part.

(2) Persons or vessels requiring entry into or passage through a safety zone must first request authorization from the Captain of the Port. The Captain of the Port's representative enforcing the safety zone can be contacted on VHF marine band radio, channels 13 and 16. The Captain of the Port can be contacted at (757) 668-5555.

(3) The Captain of the Port will notify the public of changes in the status of this safety zone by marine information broadcast on VHF marine band radio, channel 22 (157.1 MHz).

(d) Enforcement period. This section will be enforced from 6 a.m. to 8 p.m. on December 16, 2002 through December 22, 2002.

Dated: December 16, 2002.
L. M. Brooks,
Captain, Coast Guard, Captain of the Port, Hampton Roads.

[FR Doc. 02-32141 Filed 12-19-02; 8:45 am]

BILLING CODE 4910-15-P